DEPARTMENT OF TRANSPORTATION

Federal Aviation Administration

14 CFR Part 73

[Docket No. FAA-2008-0110; Airspace Docket No. 07-ASW-8]

RIN 2120-AA66

Modification of Restricted Areas R-4401A, R-4401B, and R-4401C; Camp Shelby, MS

AGENCY: Federal Aviation Administration (FAA), DOT.

ACTION: Final rule.

SUMMARY: This action modifies restricted areas R-4401A, R-4401B, and R-4401C, at Camp Shelby, MS, to ensure that aircraft remain within the confines of restricted airspace during high altitude munitions delivery and to enhance the efficient use of airspace in the vicinity of Camp Shelby, MS.

DATES: Effective date 0901 UTC, August 25, 2011.

FOR FURTHER INFORMATION CONTACT: Paul Gallant, Airspace, Regulations and ATC Procedures Group, Office of Airspace Services, Federal Aviation Administration, 800 Independence Avenue, SW., Washington, DC 20591; telephone: (202) 267-8783.

SUPPLEMENTARY INFORMATION:

Background

Special Use Airspace (SUA) at Camp Shelby, MS, currently consists of three restricted areas that are layered from the surface up to 29,000 feet MSL. Restricted area R-4401A extends from the surface up to 4,000 feet MSL; R-4401B overlies R-4401A and extends from 4,000 feet MSL up to 18,000 feet MSL; R-4401C overlies A and B and extends from 18,000 feet MSL up to 29,000 feet MSL. Adjacent to the restricted areas are two military operations areas (MOA). The De Soto 1 MOA abuts the north, east and south sides of the restricted areas and extends from 500 feet AGL up to 10,000 feet MSL. The De Soto 2 MOA lies adjacent to the east and south sides of De Soto 1 MOA and extends from 100 feet AGL up to 5,000 feet MSL.

Military Operations Areas (MOA)

MOAs are nonregulatory airspace areas that are established administratively and published in the National Flight Data Digest (NFDD) rather than through rulemaking procedures. MOAs are established to separate or segregate non-hazardous military flight activities from aircraft operating in accordance with instrument flight rules (IFR), and to advise pilots flying under visual flight rules (VFR) where these activities are conducted. IFR aircraft may be routed through an active MOA only by agreement with the using agency and only when air traffic control can provide approved separation from the MOA activity. VFR pilots are not restricted from flying in an active MOA, but they are advised to exercise caution while doing so. Although MOAs are not regulatory airspace actions, the De Soto MOAs are described in this rule because they form an integral part of the Camp Shelby Range airspace area. The MOA changes will be published separately in the NFDD.

History

On Wednesday, February 20, 2008, the FAA published in the Federal Register a notice of proposed rulemaking (NPRM) to modify Restricted Areas R-4401A, R-4401B and R-4401C at Camp Shelby, MS, by moving the southeastern corner of the restricted areas approximately 2 nautical miles (NM) to the east of the present alignment (73 FR 9241). The FAA proposed this change to “square off” the corner to ensure that aircraft conducting high altitude munitions delivery training remain within the confines of restricted airspace. Interested parties were invited to participate in this rulemaking proceeding by submitting written comments on the proposal to the FAA.

In a separate action, on February 11, 2008, the FAA distributed a nonrulemaking circular soliciting public comment on a proposal to modify the De Soto 1 and De Soto 2 MOAs and to establish two new MOAs in order to raise the upper altitude limit of the MOA airspace at the Camp Shelby Range up to but not including FL 180 (Airspace Study No. 08-ASW-09NR). In the circular, the FAA proposed to modify the De Soto 1 MOA boundary to match the amended R-4401A/R-4401B boundary and to change the De Soto 1 MOA ceiling to read “to but not including 10,000 feet MSL.” The De Soto 2 MOA altitude ceiling would be changed to read “to but not including 5,000 feet MSL,” but the De Soto 2 boundary would not be changed.

In addition, two new MOAs were proposed. The De Soto 3 MOA would overlie De Soto 1 and would extend from 10,000 feet MSL to but not including FL 180; and the De Soto 4 would overlie De Soto 2 with altitudes extending from 5,000 feet MSL to but not including FL 180. The Air National Guard (ANG) requested this change because the current MOAs do not provide sufficient altitudes to accommodate aircrew training in long-range set-up and stand-off tactics.

Seven comments were received in response to the NPRM and the circular.

Discussion of Comments

All of the commenters opposed the proposed rulemaking. Most commenters argued that the proposed airspace expansions would adversely impact civil aircraft operations in the area; and, in particular, those aircraft transiting the area via VOR Federal airways V-11 and V-70. Since this is a small boundary adjustment, with the expansion extending into existing MOA airspace, the FAA concluded the restricted area boundary change is not expected to impact air traffic in the area. Airways V-11 and V-70 do extend through the proposed expanded MOA airspace.

However, in response to the comments, the configuration and altitude structure of the MOAs have been revised. Instead of one large MOA (De Soto 4) overlying the entire Desoto 2 MOA, the proposed De Soto 4 MOA airspace is split into two separate MOAs (i.e., De Soto 4 and De Soto 5). The Desoto 4 MOA will extend from 5,000 feet MSL to but not including FL 180 and will overlie only the northern portion of De Soto 2 (i.e., north of airway V-70). The De Soto 5 MOA will overlie the remaining part of De Soto 2 (which is traversed by V-70). Also, the floor of the new De Soto 5 MOA is set at 11,000 feet MSL instead of 5,000 feet MSL. This creates a gap in MOA airspace between 5,000 feet MSL and 11,000 feet MSL along V-70 allowing uninhibited access to five IFR altitudes along the airway. Additional steps to further minimize potential impacts include: Imposing time restrictions on use of the De Soto 4 and De Soto 5 MOAs; the airspace will be subject to recall for weather or civil air traffic; and communications lines between Range Control and the FAA controlling agency (Houston ARTCC) are being added to expedite coordination. These measures are designed to facilitate real time use of the airspace as well as improve civil aviation access to the airspace when not required for military training.

Several commenters suggested that the range airspace be moved to another location in the United States where there is less air traffic. One commenter added that the training could be conducted over water in the existing warning areas that are located less than 50 miles from the De Soto MOA complex. Prior to submitting its airspace proposal, the proponent did consider alternative locations. However, alternative sites were either already saturated with test, evaluation, and training activities and/or did not have an associated air-to-ground bombing range. A bombing range, containing an array of target complexes, is required for conducting realistic maneuvering for actual and simulated ordnance delivery training. Use of the off-shore warning areas was judged to be unsuitable, in part, due to the lack of the required bombing range and the absence of usable ground references over water. Another option explored was to limit the proposed MOA expansion to just the De Soto 3 only. While this option would allow some training activities to be completed, it would not provide enough airspace to contain training in tactics requiring standoff distances that extend beyond the current De Soto 1 MOA boundary.

Differences From NPRM

The NPRM proposed a minor expansion of the boundaries of restricted areas R-4401A, R-4401B, and R-4401C to move the southeastern corner of the areas approximately 2 NM to the east. However, in response to public comments, and to provide for better real time use of the airspace, the FAA and the proponent decided to further stratify the restricted areas into five sections instead of the original three, while maintaining the current restricted area altitude structure that extends from the surface up to Flight Level (FL) 290. In addition, the name of the restricted area using agency is updated to reflect the current organization; and, the time of designation for R-4401A, B and C is simplified as described in “The Rule” section, below.

The NPRM did not include a discussion of the De Soto MOA changes, which are processed under nonrulemaking procedures. However, because the MOAs are an integral part of the Camp Shelby Range airspace, the FAA has included a discussion of these changes in this rule.

Summary of De Soto MOA Changes

The existing De Soto 1 MOA is being amended to adjust the boundaries to match the revised southeast corner of restricted areas R-4401A and R-4401B. In addition, the altitude of the De Soto 1 MOA will be amended to read “500 feet AGL to but not including 10,000 feet MSL,” and the name of the using agency is updated to reflect the current organization title. The altitude of the De Soto 2 MOA will be amended to read “100 feet AGL to but not including 5,000 feet MSL,” and the name of the using agency is also updated. The boundaries of the De Soto 2 MOA are not being changed. Instead of establishing two new MOAs as originally proposed (i.e., De Soto 3 and De Soto 4), three new MOAs will be established (De Soto 3, 4 and 5). This allows greater flexibility to facilitate real time use of the airspace as well as improve civil access to the airspace when not required by the military. As originally proposed, the De Soto 3 overlies the De Soto 1 MOA and extends from 10,000 feet MSL to but not including FL 180. However, the proposed De Soto 4 MOA airspace is revised so that, instead of overlying the entire De Soto 2 MOA, it overlies only the northern portion of De Soto 2 and extends from 5,000 feet MSL up to but not including FL 180. The new De Soto 5 MOA overlies the southern portion of De Soto 2. In addition, the De Soto 5 MOA has a floor of 11,000 feet MSL and extends up to but not including FL 180. This creates a gap in MOA airspace between the 5,000 foot MSL ceiling of the De Soto 2 MOA and the 11,000 foot MSL floor of the De Soto 5 MOA, bracketing a portion of airway V-70. This gap between De Soto 2 and De Soto 5 provides five IFR altitudes (i.e., from 6,000 feet MSL to 10,000 feet MSL inclusive) along V-70 that are always clear of MOA airspace.

The new MOA configuration allows better real time use of the airspace so that parts of the MOAs that are not needed for the military mission can be released for access by other users. These measures lessen the potential impact on other airspace users, and facilitate better access to airways V-11 and V-70, which pass through, or in the vicinity of, the De Soto 2, 4 and 5 MOAs.

The above MOA changes will be published in the NFDD.

The Rule

This rule amends 14 CFR part 73 by modifying restricted areas R-4401A, R-4401B, and R-4401C to “square off” the southeast boundary of the areas, realign the altitude structure of the restricted airspace, update the using agency name, and simplify the time of designation statement. In addition, two new restricted areas are designated: R-4401D and R-4401E. These changes do not alter the overall altitude limits of the Camp Shelby restricted areas, which remain as currently designated (i.e., from the surface to but not including 29,000 feet MSL). However, to accommodate more flexible use of the airspace and to lessen the potential impact on other airspace users by enabling parts of the area to be released when not needed for the military mission, the existing altitude structure is divided into five subareas instead of three. With these changes, the restricted airspace at Camp Shelby, MS, consists of: R-4401A, extending from the surface to but not including 4,000 feet MSL; R-4401B, extending from 4,000 feet MSL to but not including 10,000 feet MSL; R-4401C, extending from 10,000 feet MSL to but not including FL 180; R-4401D, extending from FL 180 to but not including FL 230; and R-4401E, extending from FL 230 to FL 290. All five subareas share the same boundary alignment. The time of designation for R-4401A, B and C remains by NOTAM at least 24 hours in advance, except that the words “NOTAMS to contain information concerning deactivation of the area” are deleted from the description. This statement is not required because SUA NOTAMs normally include the times when the airspace is in effect.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies restricted airspace in the vicinity of Camp Shelby, MS, to enhance the safe and the efficient use of the National Airspace System.

Environmental Review

In July 2008, the Air National Guard (ANG) published a Final Environmental Assessment (FEA) “Modification of CRTC-Used Airspace: Combat Readiness Training Center” and associated Finding of No Significant Impact (FONSI) dated July 1, 2008. The ANG prepared the FEA and associated FONSI in compliance with their obligations under the National Environmental Policy Act (NEPA) and as specified in ANG environmental regulations. The FAA was a cooperating agency in the NEPA process and provided input during the ANG environmental process. Additionally, in accordance with FAA Order 1050.1E, “Environmental Impacts: Policies and Procedures,” paragraph 404d, the FAA has independently evaluated the information contained in the FEA and is adopting the content that addresses FAA actions pursuant to 40 CFR 1506.3(a) and (c) and has issued a FONSI/Record of Decision (ROD) dated May 2011. This final rule, which modifies the Camp Shelby. MS, restricted areas, will not result in significant environmental impacts.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.44 [Amended]

2. Section 73.44 is amended as follows:

* * * * *

1. R-4401A Camp Shelby, MS [Amended]

By removing the current boundaries, altitudes, time of designation and using agency and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

Designated altitudes. Surface to but not including 4,000 feet MSL.

Time of designation. By NOTAM at least 24 hours in advance.

Using agency. Commanding Officer, Camp Shelby, MS.

2. R-4401B Camp Shelby, MS [Amended]

By removing the current boundaries, designated altitudes, time of designation and using agency and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

Designated altitudes. 4,000 feet MSL to but not including 10,000 feet MSL.

Time of designation. By NOTAM at least 24 hours in advance.

Using agency. Commanding Officer, Camp Shelby, MS.

3. R-4401C Camp Shelby, MS [Amended]

By removing the current boundaries, designated altitudes, time of designation and using agency and substituting the following:

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

Designated altitudes. 10,000 feet MSL to but not including FL 180.

Time of designation. By NOTAM at least 24 hours in advance.

Using agency. Commanding Officer, Camp Shelby, MS.

4. R-4401D Camp Shelby, MS [New]

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

Designated altitudes. FL 180 to but not including FL 230.

Time of designation. By NOTAM 4 hours in advance.

Controlling agency. FAA, Houston ARTCC.

Using agency. Commanding Officer, Camp Shelby, MS.

5. R-4401E Camp Shelby, MS [New]

Boundaries. Beginning at lat. 31°12′55″ N., long. 89°11′03″ W.; to lat. 31°11′49″ N., long. 89°00′00″ W.; to lat. 31°10′16″ N., long. 88°56′34″ W.; to lat. 31°04′37″ N., long. 88°56′34″ W.; to lat. 31°04′37″ N., long. 89°11′00″ W.; to the point of beginning.

Designated altitudes. FL 230 to FL 290.

Time of designation. By NOTAM four hours in advance.

Controlling agency. FAA, Houston ARTCC.

Using agency. Commanding Officer, Camp Shelby, MS.

Issued in Washington, DC, on June 15, 2011.
Gary A. Norek,
Acting Manager, Airspace, Regulations and ATC Procedures Group.

[FR Doc. 2011-15702 Filed 6-22-11; 8:45 am]

BILLING CODE 4910-13-P